DEPARTMENT OF JUSTICE

Antitrust Division

Notice Pursuant to the National Cooperative Research and Production Act of 1993—Southwest Research Institute: Cooperative Research Group on High Efficiency Durable Gasoline Engine

Notice is hereby given that, on June 10, 2005, pursuant to Section 6(a) of the National Cooperative Research and Production Act of 1993, 15 U.S.C. 4301 et seq. (“the Act”), Southwest Research Institute: Cooperative Research Group on High Efficiency Durable Gasoline Engine (“HEDGE”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to section 6(b) of the Act, the identities of the parties to the venture are: Corning, Inc., Corning, NY; Cummins Technical Center, Columbus, OH; Hino Motors, Ltd., Tokyo, Japan; John Deere Product Engineering Center, Waterloo, IA; Peugeot Citroen Automobiles (the R&D Subsidiary), Cedex, France; Renault Vehicules Industries, Cedex, France; and Volkswagen of America, Inc., Auburn Hills, MI. The general area of HEDGE's planned activity is to develop and demonstrate the various technologies required to produce gasoline fueled engines that are competitive with diesel engines, in terms of performance and emissions levels, with a focus on the efficiency and durability of gasoline fueled engines. Enabling technologies for efficiency improvement to be utilized include: Variable valve actuation; variable compression ratio; high EGR tolerance; high BMEP capability; aggressive knock mitigation; and high boost. Durability targets will be addressed through modeling and computations for improved head design, improved thermal management, application of high temperature materials to valve, piston crowns, fire decks and turbochargers, and structural improvement for high firing pressures and higher BMEPs.

Membership in this group research project remains open, and HEDGE intends to file additional written notification disclosing all changes in membership or planned activities.

Dorothy B. Fountain,
Deputy Director of Operations, Antitrust Division.

[FR Doc. 05-13349 Filed 7-6-05; 8:45 am]

BILLING CODE 4410-11-M